NATIONAL COMMISSION ON LIBRARIES AND INFORMATION SCIENCE

Notice of Meetings

AGENCY: National Commission on Libraries and Information Science.

ACTION: Notice of meetings.

Summary: The U.S. National Commission on Libraries and Information Science is holding an open business meeting to discuss Commission programs and administrative matters. Topics will include discussion about the NCLIS initiative regarding the role of libraries following the September 11th terrorist attack and updates of ongoing projects.

Date and Time: NCLIS Business Meeting—June 27, 2002, 10 a.m. until 12 Noon.

Address: Conference Room, NCLIS Office, 1110 Vermont Avenue, NW., Suite 820 Washington, DC 20005.

Status: Open meeting.

SUPPLEMENTARY INFORMATION: The business meeting is open to the public, subject to space availability. To make special arrangements for physically challenged persons, contact Judith Russell, Deputy Director, 1110 Vermont Avenue, NW., Suite 820, Washington, DC 20005, e-mail jrussell@nclis.gov fax 202-606-9203 or telephone 202-606-9200.

Summary: The U.S. National Commission on Libraries and Information Science is also holding a closed meeting to review the nominations for the National Award for Library Service. Closing this meeting is in accordance with the exemption provided under 45 CFR 1703.202(a)(9).

Date and Time: NCLIS Closed Meeting—June 27, 2002, 8:30 a.m. until 10 a.m.

Address: Conference Room, NCLIS Office, 1110 Vermont Avenue, NW., Suite 820 Washington, DC 20005.

Status: Closed meeting.

FOR FURTHER INFORMATION CONTACT: Judith Russell, Deputy Director, U.S. National Commission on Libraries and Information Science, 1110 Vermont Avenue, NW., Suite 820, Washington, DC 20005, e-mail jrussell@nclis.gov, fax 202-606-9203 or telephone 202-606 9200.

Dated: May 31, 2002.
Robert S. Willard,
NCLIS Executive Director.

[FR Doc. 02-14058 Filed 6-4-02; 8:45 am]

BILLING CODE 7527-$$-P